NUCLEAR REGULATORY COMMISSION

Nuclear Regulatory Commission, Office of Nuclear Regulatory Research, Electric Power Research Institute Course on Fire Probabilistic Risk Assessment (PRA)

AGENCY: Nuclear Regulatory Commission.

ACTION: Notice of Public Meeting.

SUMMARY: The U.S. Nuclear Regulatory Commission (NRC), Office of Nuclear Regulatory Research (RES), in cooperation with the Electric Power Research Institute (EPRI), will hold a joint course on fire probabilistic risk assessment (PRA). Since 2002, RES and EPRI, under a Memorandum of Understanding (MOU) on Cooperative Nuclear Safety Research, have been developing state-of-the-art methods for conduct of fire PRA. In September 2005, this work produced the “EPRI/NRC-RES Fire PRA Methodology for Nuclear Power Facilities,” NUREG/CR-6850 (EPRI 1011989). The course covers this state-of-the-art methodology.

Purpose: To provide training for users of “EPRI/NRC-RES Fire PRA Methodology for Nuclear Power Facilities,” NUREG/CR-6850 (EPRI 1011989).

DATES:

Session I: Monday, September 29 (8 a.m.-5 p.m.) through Thursday, October 2, 2008 (8 a.m.-4 p.m).

Session II: Monday, November 17 (8 a.m.-5 p.m.) through Thursday, November 20, 2008 (8 a.m.-4 p.m.).

ADDRESSES: Hyatt Regency Bethesda, One Bethesda Metro Center, Bethesda, MD 20814.

Meeting Agenda: The agenda for this meeting can be accessed at http://www.nrc.gov/public-involve/conference-symposia/epri-fire-pra-course/epri-fire-pra-agenda.pdf.

FOR FURTHER INFORMATION CONTACT: Kendra Hill, e-mail address: Kendra.hill@nrc.gov telephone number: (301) 415-5456. To register for the course log on to http://www.nrc.gov/public-involve/conference-symposia/epri-fire-pra-course/epri-fire-pra-course-info.html.

Conduct of the Meeting

This meeting is a Category 3 meeting*. The public is invited to participate in this meeting by providing comments and asking questions throughout the meeting. Please note this workshop is being conducted in a classroom format; registration is required to ensure space availability.

The NRC provides reasonable accommodation to individuals with disabilities where appropriate. If you need a reasonable accommodation to participate in this workshop, or need the workshop notice or agenda in another format (e.g., Braille, large print), please notify the NRC's meeting contact. Determinations on requests for reasonable accommodation will be made on a case-by-case basis.

*Meetings between the NRC technical staff and external stakeholders are open for interested members of the public, petitioners, interveners, or other parties to attend as observers pursuant to Commission policy statement, “Enhancing Public Participation in NRC Meetings,” 67 Federal Register 36920, May 28, 2002.

Dated at Rockville, Maryland, this 17 day of July, 2008.
For the Nuclear Regulatory Commission.
Mark Salley,
Branch Chief, Fire Research Branch, Division of Risk Analysis, Office of Nuclear Regulatory Research.

[FR Doc. E8-17908 Filed 8-4-08; 8:45 am]

BILLING CODE 7590-01-P